SMALL BUSINESS ADMINISTRATION

Region IV Regulatory Fairness Board; Public Federal Regulatory Enforcement Fairness Roundtable

The Small Business Administration Region IV Regulatory Fairness Board and the SBA Office of the National Ombudsman will hold a Public Roundtable on Thursday, May 1, 2003, at 12:30 p.m. at the Sheraton Music City, 777 McGavock Park, Nashville, TN 37214, to provide small business owners and representatives of trade associations with an opportunity to share information concerning the Federal regulatory enforcement and compliance environment.

Anyone wishing to attend or to make a presentation must contact W. Clinton Smith in writing or by fax, in order to be put on the agenda. W. Clinton Smith, U.S. Small Business Administration, Tennessee District Office, 50 Vantage Way, Suite 201, Nashville, TN 37228, phone (615) 736-5039, fax (615) 736-7232, e-mail: w.smith@sba.gov.

For more information, see our Web site at www.sba.gov/ombudsman.

Dated: April 9, 2003.
Michael L. Barrera,
National Ombudsman.

[FR Doc. 03-9297 Filed 4-15-03; 8:45 am]

BILLING CODE 8025-01-P